NUCLEAR REGULATORY COMMISSION

10 CFR Part 35

[Docket No. NRC-2018-0297]

RIN 3150-AK80

Rubidium-82 Generators, Emerging Technologies, and Other Medical Use of Byproduct Material

AGENCY: Nuclear Regulatory Commission.

ACTION: Regulatory basis; notice of public meeting.

SUMMARY: The U.S. Nuclear Regulatory Commission (NRC) is conducting rulemaking to add requirements for calibration and dosage measurement for certain generator systems and establish performance-based requirements for existing and future emerging medical technologies. The NRC is also considering additional changes to its medical use regulations to accommodate developments in the medical field related to new radiopharmaceuticals and emerging medical technologies. The rulemaking will affect medical licensees who use these technologies and evaluate the current training and experience requirements for emerging medical technologies. The NRC is requesting comments from the public on the regulatory basis for this rulemaking. The NRC plans to hold one or more public meetings during the comment period to promote full understanding of the contemplated action and facilitate public comment.

DATES: Submit comments by October 31, 2023. Comments received after this date will be considered if it is practical to do so, but the NRC is able to ensure consideration only for comments received before this date.

ADDRESSES: You may submit comments by any of the following methods; however, the NRC encourages electronic comment submission through the Federal rulemaking website:

• Federal Rulemaking website: Go to https://www.regulations.gov and search for Docket ID NRC-2018-0297. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff. For additional direction on obtaining information and submitting comments, see “Obtaining Information and Submitting Comments” in the SUPPLEMENTARY INFORMATION section of this document.

FOR FURTHER INFORMATION CONTACT: Celimar Valentin-Rodriguez, telephone: 301-415-7124, email: Celimar.Valentin-Rodriguez@nrc.gov; and Maryann Ayoade, telephone: 301-415-0862, email: Maryann.Ayoade@nrc.gov. Both are staff of the U.S. Nuclear Regulatory Commission, Washington, DC 20555-0001.

SUPPLEMENTARY INFORMATION:

I. Obtaining Information and Submitting Comments

A. Obtaining Information

Please refer to Docket ID NRC-2018-0297 when contacting the NRC about the availability of information for this action. You may obtain publicly available information related to this action by any of the following methods:

• Federal Rulemaking website: Go to https://www.regulations.gov and search for Docket ID NRC-2018-0297.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-80-397-4209 or 301-415-4737, between 8 a.m. and 4 p.m. eastern time, Monday through Friday, except Federal holidays.

B. Submitting Comments

The NRC encourages electronic comment submission through the Federal rulemaking website (https://www.regulations.gov). Please include Docket ID NRC-2018-0297 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

The NRC is requesting comment on a regulatory basis to support a rulemaking that would amend part 35 of title 10 of the Code of Federal Regulations (10 CFR), “Medical use of byproduct material,” to add requirements for calibration and dosage measurement for strontium-82/rubidium-82 generators (hereafter referred to as Rb-82 generators) and establish performance-based requirements for existing and future emerging medical technologies (EMTs). The NRC is also considering additional changes to its medical use regulations to accommodate developments in the medical field related to new radiopharmaceuticals and EMTs. Additionally, the NRC is evaluating the current training and experience requirements required for authorized users (AUs) of EMTs to fulfill their radiation safety-related duties and supervisory roles.

A regulatory basis is a precursor to a proposed rule and describes the NRC's planned approach for revising the regulations. This regulatory basis (1) includes a discussion of the background of the regulatory issues, (2) explains the proposed areas of change to the regulations and how those changes could resolve the issues, (3) provides the technical and policy information used to support the regulatory basis, and (4) identifies different alternatives to address the regulatory issues and evaluates the cost and benefits of rulemaking and the alternatives. The regulatory basis also explains the limitations on the scope and quality of the regulatory basis, such as known uncertainties in the data or methods of analysis, and the mitigation measures that address these limitations.

III. Specific Requests for Comment

The NRC considers a regulatory basis to be a pre-rulemaking document. If the NRC decides to pursue rulemaking, the NRC will publish a proposed rule that will seek public comment. Currently, the NRC is seeking advice and recommendations from the public on the regulatory basis.

The regulatory basis, titled “Rubidium-82 Generators, Emerging Technologies, and Other Medical Use of Byproduct Material—Regulatory Basis,” can be obtained at ADAMS Accession No. ML23122A356. The regulatory basis evaluates the existing regulatory framework for Rb-82 generators, including the use of enforcement discretion when licensees who use Rb-82 generators cannot meet existing requirements for calibration, and dosage determination and what type of regulatory changes would need to be considered to permit such action. In addition, the regulatory basis evaluates what regulatory changes are needed to establish risk-informed, performance-based requirements for existing and future emerging medical technologies.

The NRC will consider any comments received on the regulatory basis in the development of the proposed rule and will respond to the comments in the proposed rule. The regulatory basis describes all of the regulatory changes being considered, and the NRC is requesting comment regarding some of these potential changes. Please indicate the topic and item number with your response or comment:

Request for Comment Regarding Averted Costs to Licensees

Section 8 of the regulatory basis document discusses potential rulemaking costs and other impacts to the NRC (section 8.3), Agreement States (section 8.4), and licensees (section 8.5). The analyses are based on the NRC's preliminary assessment and estimates, and the NRC will conduct a more detailed cost and impact evaluation in the draft regulatory analysis that will accompany the proposed rule. To assist the NRC in conducting this detailed analysis, please provide comments on whether licensees would realize averted costs from a more streamlined licensing of existing and future EMTs. Explain why or why not.

Request for Comment on Topics in Appendix A of the Regulatory Basis

The specific areas for comment that follow are from appendix A of the regulatory basis, and the numbering scheme matches the numbering in appendix A.

Generator Systems (See Regulatory Basis Section A.1)

The NRC is considering regulatory changes to address calibration and dose determination requirements for rubidium-82 generators. In addition, the NRC is also considering regulatory changes to address generators currently licensed under 10 CFR part 35, subpart K and novel generator systems.

Question A.1.1: Please provide comments on the need for radiation safety officers to have specific training for all generator systems licensed under 10 CFR part 35, subpart D, “Unsealed Byproduct Material—Written Directive Not Required.” If general awareness on radionuclide generators, including their functions and risks, is sufficient, explain why.

The NRC is considering amending the requirement in § 35.63, “Determination of dosages of unsealed byproduct material for medical use,” to clarify that, for the incremental administration of rubidium-82, dose measurements do not have to be complete before administration when the dose is measured continuously during the infusion of Rb-82 from a generator to the patient.

Question A.1.2: Please provide comments on whether and how the NRC should allow the completion of dosage measurement after the beginning of an incremental administration for radionuclides other than Rb-82. How would such an allowance be bounded? What considerations should go into the expansion of this flexibility?

Question A.1.3: The NRC has found that AUs authorized under § 35.290, “Training for imaging and localization studies,” have sufficient understanding of radionuclide generators, and the NRC is considering revising § 35.27, Supervision,” to require device-specific training requirements for supervised individuals. Please provide comments with a rationale on whether § 35.290 AUs should also be required to have device-specific training for all radionuclide generators for which they supervise the use.

Intravascular Brachytherapy Systems (See Regulatory Basis Section A.2)

The NRC is considering revisions to 10 CFR part 35, subpart F, “Manual Brachytherapy,” to incorporate regulatory requirements for intravascular brachytherapy (IVB).

Question A.2.1: The NRC is considering adding a new section under subpart F to address the specific training and experience (T&E) requirements to be an AU for IVB and other uses under § 35.401 (liquid brachytherapy, diffusion brachytherapy, and eye applicators). Please provide comments on the sufficiency of the T&E for AUs as outlined in the current EMT licensing guidance documents for IVB, liquid brachytherapy, and eye applicators. Specifically, the NRC is seeking comments on the knowledge topics encompassing the safety-related characteristics of these EMTs required for AUs to fulfill their radiation safety-related duties and supervision roles; the methods on how knowledge topics should be acquired; and consideration for continuing education, vendor training for new medical uses, and training on NRC regulatory requirements.

Liquid Brachytherapy Sources and Devices (See Regulatory Basis Section A.3)

The NRC is considering changes to 10 CFR part 35, subpart F, “Manual Brachytherapy” and other pertinent sections to incorporate regulatory requirements for liquid brachytherapy.

Question A.3.1: The NRC has found that the hazards of liquid brachytherapy are similar to those of microsources and microspheres. Please provide comments with a rationale on whether the current definition of manual brachytherapy in § 35.2, “Definitions,” should be revised to include liquid brachytherapy and exclude microsources or if liquid brachytherapy should be included in the newly proposed subpart I for microsources.

Question A.3.2: The NRC is proposing to add a new § 35.71, “Contamination control,” that would require licensees to develop, implement, and maintain procedures addressing contamination control and spill response for the uses authorized on the license. The NRC is seeking input on whether this requirement is needed or if the requirements in 10 CFR part 20, “Standards for Protection against Radiation,” are sufficient for contamination control. Please provide comments on this proposed requirement and indicate if it should apply to all medical licensees or to a certain subset and why.

Question A.3.3: The NRC is considering amending § 35.2 to define the term “source leakage” as it relates to liquid brachytherapy. For example, a possible leakage rate could be any leakage from a liquid brachytherapy source that results in a dose exceeding 0.5 Sievert (50 rem) dose equivalent to any individual organ other than the treatment site. Please comment on whether this limit is appropriate and explain why or why not. What types of limits for liquid brachytherapy device leakage should the NRC consider (e.g., activity-based, dose-based, external to the patient)?

Gamma Stereotactic Radiosurgery and Photon Emitting Teletherapy Units (See Regulatory Basis Section A.6)

Since the NRC established requirements for gamma stereotactic radiosurgery units in 2002, the design and engineering elements have evolved and the components and operation of newer GSR units are significantly different from the units that the NRC currently regulates under 10 CFR part 35, subpart H, “Photon Emitting Remote Afterloader Units, Teletherapy Units, and Gamma Stereotactic Radiosurgery Units.”

Question A.6.1: Please provide comments on the need for model-specific training for radiation safety officers for certain 10 CFR part 35, subpart H devices. If model-specific training is needed, how should the NRC determine which devices would require such training?

Question A.6.2: Current NRC requirements in 10 CFR part 35, subpart H, are focused on components critical to patient and facility safety for the use of these devices. The proposed changes to subpart H focus on elements and objectives rather than specific components. Examples of elements include source output, source collimation, source position, source attenuation, patient safety, and facility safety. Please provide comments on other elements that should be considered.

Question A.6.3: Please provide comments on what types of objective tests the NRC should require for full calibration measures for 10 CFR part 35, subpart H devices. What functional elements should be considered for safety?

Question A.6.4: Please provide comments on what types of objective tests the NRC should require for periodic spot-checks for 10 CFR part 35, subpart H devices. Additionally, what functional elements should be considered critical to safety?

Microsource Manual Brachytherapy (See Regulatory Basis Section A.7)

The use of microspheres for permanent implant manual brachytherapy has grown significantly over the past 20 years, and the NRC has accrued valuable operating experience. To incorporate the use of new and existing microspheres and microparticles for manual brachytherapy, the NRC is considering creating a new subpart within 10 CFR part 35 in the currently “reserved” subpart I of 10 CFR part 35.

Question A.7.1: The NRC is considering defining a “microsource” in § 35.2 as microparticles and microspheres. What types of radiation (such as alpha, beta, gamma) should fit into the definition of “microsource”? Please include comments and a rationale for whether (1) microspheres should be limited to specific types of radiation or certain energies; (2) microsources should be limited to sealed sources with a Sealed Source and Device (SS&D) registry; (3) unsealed microsources should be required to have a SS&D registry; and (4) any additional changes are needed in the current regulations for microsource brachytherapy that would increase flexibility for future microsource brachytherapy.

Question A.7.2: The NRC is considering defining “physiological equilibrium” in § 35.2 to include stasis or other states of equilibrium. Please provide comments on what should be included in a definition of physiological equilibrium or identify other considerations for physiological stop points.

Question A.7.3: As the complexity of the medical use of byproduct material increases, use of teams in medical care is becoming more common. Please provide comments on the fundamental elements of a successful team-approach program.

Section 35.40, “Written directives,” would be amended to clarify that requirements for manual brachytherapy uses under 10 CFR part 35, subpart F, are in § 35.40(b)(6). The NRC is considering listing the subpart I requirements for written directives for microsource manual brachytherapy uses under a new item in § 35.40(b).

Question A.7.4: For microsource manual brachytherapy, please provide comments and a rationale for whether the before-implant written directive should specify the dose or activity.

Question A.7.5: For microsource manual brachytherapy, please provide comments and a rationale for whether the after-implant written directive should specify the activity administered or the dose delivered to the treatment site.

Question A.7.6: As required by § 35.41 for determining whether a medical event has occurred (as defined in § 35.3045), please comment on whether and why the NRC should require calculating and documenting the activity administered or the activity or dose specifically delivered to the treatment site. By what deadline (e.g., number of hours or days) should this determination be made?

Question A.7.7: For microsource manual brachytherapy, please comment on whether the NRC should require post-treatment imaging to confirm that the treatment was delivered in accordance with the written directive. Why or why not? What other mechanisms are available to confirm that the treatment was delivered in accordance with the written directive?

Question A.7.8: Please identify any tasks that would require an authorized medical physicist for the use of microsphere manual brachytherapy and identify whether and how the NRC should revise the training and experience requirements for authorized medical physicists in § 35.51, “Training for an authorized medical physicist.”

Question A.7.9: Please comment on what types of use should be permitted for microsource manual brachytherapy, including whether the use should be limited to that approved in the sealed source and device registry. Please comment on why unsealed microsources without a unique delivery system should or should not be allowed.

Question A.7.10: Please comment on why any new requirements for microsource manual brachytherapy should or should not be limited to permanent implants.

Question A.7.11: The NRC is considering establishing minimum safety procedures for microsources and requiring instructions to assure adequate protection of public health and safety. These changes are based on current EMT licensing guidance for yttrium-90 (Y-90) microspheres and expected new uses of microsources. Please identify and comment on other items that should be included in a new requirement for safety procedures and instructions for microsource manual brachytherapy.

Question A.7.12: The NRC is considering establishing minimum safety precautions (controls) to assure adequate protection of public health and safety. These considerations are based on current EMT licensing guidance for Y-90 microspheres and expected new uses of microsources. Please identify and comment on other items that should be included in a new requirement for safety precautions (controls) for microsource manual brachytherapy.

Question A.7.13: The NRC is seeking input on the need for continued conditional approval for AUs of Y-90 microspheres. The current licensing guidance for Y-90 microspheres states that an AU should successfully complete training in the operation of the delivery system, safety procedures, and clinical use for the specific type of Y-90 microsphere for which authorization is sought. The guidance specifies that clinical use training to support unsupervised use should include at least three hands-on patient cases for each type of Y-90 microsphere requested, conducted in the physical presence of an AU who is authorized for the type of Y-90 microsphere for which the individual is seeking authorization. The guidance allows conditional approval of an AU before completing these three hands-on patient cases if a proposed AU cannot complete patient cases before authorization. This conditional approval was originally added to the guidance because there were limited Y-90 microsphere licensees and AUs to train future AUs. As the use of Y-90 microspheres has increased significantly, please comment on the continued need for conditional approval for Y-90 microsphere AUs. Indicate why the NRC should or should not continue to allow this pathway for all microspheres and microsources AUs.

Question A.7.14: The NRC is seeking input on the 80 hours of classroom and laboratory training for interventional radiologists pursuing AU status for Y-90 microsphere and other microsource uses. The NRC in the current EMT licensing guidance for Y-90 microspheres includes a pathway for interventional radiologists to become AUs for Y-90 microspheres use. This pathway requires the interventional radiologist to demonstrate that they have 80 hours of classroom and laboratory training in specific topics and specific work experience important to radiation safety, in addition to demonstrating they have sufficient clinical interventional radiology and diagnostic radiology experience. Please comment on why 80 hours is or is not an appropriate amount of time to ensure these topics are adequately covered. Who should supervise the work experience to ensure the future AUs have adequate radiation safety knowledge and why?

Question A.7.15: The NRC is seeking input on classroom and laboratory training topics for physicians seeking AU status for all microspheres or other types of microsources. The NRC, in the current EMT licensing guidance for Y-90 microspheres, provides a pathway for interventional radiologists and physicians that meet the training and experience requirements in §§ 35.390 and 35.490 to become AUs for Y-90 microspheres use. This pathway does not require any classroom and laboratory training or specific work experience for these physicians besides demonstration of successfully completed training in the operation of the delivery system, safety procedures, and clinical use (including hands-on patient cases) for the type of Y-90 microsphere for which authorization is sought. Please identify and comment on any additional classroom and laboratory training topics or specific work experience that should be required for these physicians to become AUs for all microspheres or other types of microsources in subpart I. What additional training and work experience should be considered, if any, and why?

Question A.7.16: The NRC is seeking input on the pathways for physicians to become AUs for use of microspheres and other types of microsources. The NRC in the current EMT licensing guidance for Y-90 microspheres provides pathways for interventional radiologists and physicians that meet the training and experience requirements in §§ 35.390 and 35.490 to become AUs for Y-90 microsphere use. Please comment on whether and why the NRC should or should not provide additional pathways for other types of physicians to become AUs for use of microspheres or other types of microsources.

Question A.7.17: In most circumstances, are AUs the individuals administering Y-90 microspheres? Is it appropriate for other individuals to administer microsources under the supervision of an AU? Why or why not?

Other Part 35 Changes: Novel Radionuclide Generators (See Regulatory Basis Section A.8)

Question A.8.1: Industry is evaluating various novel radionuclide generators. Some novel radionuclide generators may be utilized to compound therapeutic dosages of unsealed byproduct material. The NRC is considering a requirement for licensees to perform breakthrough testing on novel radionuclide generators and report instances when breakthrough exceeds a defined limit. Since breakthrough limits for some novel radionuclide generators have not been established by the United States Pharmacopeia, please explain why it would or would not be sufficient for licensees to develop, implement, and maintain procedures for breakthrough testing and reporting for novel radionuclide generators.

Other Part 35 Changes: Training and Experience (See Regulatory Basis Section A.8)

Question A.8.2: Please comment on the type of T&E that should be required for AUs utilizing novel radionuclide generators and the type of T&E for authorized nuclear pharmacists utilizing novel radionuclide generators.

Question A.8.3: Please comment on why the current structure for authorized medical physicist involvement in 10 CFR part 35, subpart F, “Manual Brachytherapy,” is or is not sufficient. If not sufficient, what specific tasks or skills should be performed by an authorized medical physicist for manual brachytherapy?

Question A.8.4: Due to the increased number and complexity of EMTs, please comment on why the NRC should or should not require continuing education for AUs. If continuing education should be required, what should it entail, at what frequency should it be acquired, and how should knowledge topics be acquired?

Question A.8.5: Please comment on the need for AUs for § 35.200 to have device-specific training on radionuclide generators. If device-specific training is needed, what topics should the training include? Please explain why the training should or should not be specific to the radionuclide generators for which the AUs are supervising the use.

Question A.8.6: Please comment and provide a rationale for whether physicians authorized for full use under § 35.300 need additional T&E to fulfill their radiation safety-related duties and supervision roles because of expected emerging therapeutic radiopharmaceuticals. Please comment on why additional training is or is not needed on regulatory requirements for emerging therapeutic radiopharmaceuticals. If needed, what topics should the T&E include? What specific training should these AUs be required to have (e.g., vendor training on clinical use and safety procedures) prior to first-time use, if any? Why should they be required or not required to have continuing education?

Question A.8.7: Please comment on why the current AU T&E requirements for use of sealed sources and medical devices for diagnosis in § 35.590 (i.e., 8 hours of classroom and laboratory training in basic radionuclide handling techniques specifically applicable to the use of the device authorized under § 35.500, as well as device-specific training in the use of the device) are or are not appropriate for emerging sealed sources and medical devices containing sealed sources. If AUs for § 35.500 need additional training and work experience on emerging sealed sources and medical devices containing sealed sources for diagnosis, what topics should be covered?

Other Part 35 Changes: Security and Controls

Question A.8.8: Please comment on any specific changes that are needed to secure consoles, keys, and passwords for remote afterloader units, teletherapy units, and gamma stereotactic radiosurgery units because of changes in technology.

Question A.8.9: Please comment on the types of doors or entry controls that would be acceptable to maintain security of licensed material while not interfering with patient care. For example, why should a physical door be required, or why other entry controls such as lasers acceptable?

IV. Cumulative Effects of Regulation

The NRC is following its Cumulative Effects of Regulation (CER) process by engaging with external stakeholders throughout this regulatory basis and related regulatory activities. Opportunity for public comment is provided to the public at this regulatory basis stage.

1. In light of any current or projected CER challenges, how should NRC provide sufficient time to implement the new proposed requirements, including changes to programs and procedures?

2. If CER challenges currently exist or are expected, what should be done to address them? For example, if more time is required for implementation of the new requirements, what period of time is sufficient?

3. What other (NRC or other agency) regulatory actions (e.g., orders, generic communications, license amendment requests inspection findings of a generic nature) influence the implementation of the proposed rule's requirements?

4. What are the unintended consequences, and how should they be addressed?

5. Please comment on the NRC's cost and benefit estimates in the regulatory basis.

V. Public Meetings

During the public comment period, the NRC will hold one or more public meetings to facilitate discussion of the proposed rulemaking described in the regulatory basis document, including the questions in Appendix A of the document and provided in Section III of this document.

The NRC will publish a notice of the location, time, and agenda of the meetings in the docket on Regulations.gov, and on the NRC's public meeting website at least 10 calendar days before the meeting. Stakeholders should monitor the NRC's public meeting website for information about the public meeting at: https://www.nrc.gov/public-involve/public-meetings/index.cfm.

VI. Availability of Documents

The documents identified in the following table are available to interested persons through one or more of the following methods, as indicated.

Document | ADAMS accession No. or Federal Register citation
Final Rule—“Criteria for the Release of Individuals Administered Radioactive Material,” January 29, 1997 | 62 FR 4120.
Final Rule—“Requirements for Expanded Definition of Byproduct Material,” October 1, 2007 | 72 FR 55864.
Licensing Guidance for the Intraocular Use of NeoVista, Inc.Epi-Rad90™ (Strontium-90) Ophthalmic System, April 2009 | ML091140370.
Enforcement Guidance Memorandum (EGM) 13-003, “Enforcement Guidance Memorandum—Interim Guidance for Dispositioning Violations Involving 10 CFR 35.60 and 10 CFR 35.63 for the Calibration of Instrumentation to Measure the Activity of Rubidium-82 and the Determination of Rubidium-82 Patient Dosages,” April 18, 2013 | ML13101A318.
ViewRay™ System for Radiation Therapy Licensing Guidance, July 24, 2013 | ML13179A287.
Low Activity Radioactive Seeds Used for Localization of Non-Palpable Lesions and Lymph Nodes Licensing Guidance, Revision 1, October 07, 2016 | ML16197A568.
Memorandum from M. Dapas to D. Dorman, C. Pederson, K. Kennedy; “Revision of Technical Basis for Granting Specific Exemption from Decommissioning Funding Plan Requirement for Germanium-68/Gallium-68 Generators,” July 13, 2017 | ML17075A487.
SECY-18-0015, “Staff Evaluation of the U.S. Nuclear Regulatory Commission's Program for Regulating Patient Release After Radioisotope Therapy,” January 29, 2018 | ML17279B139 (package).
Management Directive 5.9, “Adequacy and Compatibility of Program Elements for Agreement State Programs,” April 26, 2018 | ML18081A070.
Leksell Gamma Knife® Perfexion™ and Leksell Gamma Knife® Icon™ Licensing Guidance, Revision 1, January 10, 2019 | ML18333A365.
Germanium-68/Gallium-68 Pharmaceutical Grade Generators Licensing Guidance, July 2019 | ML19106A367.
NUREG-1556, Volume 9, Revision 3, “Consolidated Guidance About Materials Licenses: Program-Specific Guidance About Medical Use Licenses, Final Report,” September 2019 | ML19256C219.
SECY-00-0118, Final Rules—10 CFR part 35, “Medical Use of Byproduct Material” and 10 CFR part 20, “Standards for Protection Against Radiation,” May 31, 2000 | ML003698513.
Xcision® GammaPod™ Licensing Guidance, January 22, 2020 | ML19304B370.
NRC Enforcement Policy, January 15, 2020 | ML19352E921.
State and Tribal Communication STC-20-049, “Responses to the Organization of Agreement States (OAS) Requests Regarding Clarification of Compatibility Categories for Medical Licensing Guidance Documents; and Use of Safety Evaluation Reports (SERs) as a Legally Binding Requirement,” June 30, 2020 | ML20178A610.
SECY-21-0013, “Rulemaking Plan to Establish Requirements for Rubidium-82 Generators and Emerging Medical Technologies,” February 9, 2021 | ML20261H562.
Yttrium-90 Microsphere Brachytherapy Sources and Devices TheraSphere® and SIR-Spheres® Licensing Guidance, Revision 10.2, April 20, 2021 | ML21089A364.
NorthStar Medical Radioisotopes, LLC, RadioGenix® Molybdenum-99/Technetium-99m Generator System; Licensing Guidance for Medical Use Licensees, Medical Use Permittees, and Commercial Nuclear Pharmacies, December 17, 2021 | ML21350A064.
Staff Requirements Memorandum, SRM-SECY-21-0013, “Rulemaking Plan to Establish Requirements for rubidium-82 Generators and Emerging Medical Technologies,” January 13, 2022 | ML22013A266.
Staff Requirements Memorandum, SRM-SECY-20-0005, “Rulemaking Plan for Training and Experience Requirements for Unsealed Byproduct Material (10 CFR part 35),” January 27, 2022 | ML22027A519.
Alpha Tau Alpha DaRT™ Manual Brachytherapy Licensing Guidance, March 10, 2022 | ML22018A225.
Appendix, Consolidated Technical Analysis (chart with list of 10 CFR part 35 regulations and conditions applicable to use of Alpha DaRT™) | ML22018A223.
Letter to All Agreement States, Connecticut, and Indiana; “Results of Annual Count of Radioactive Material Licenses in the National Materials Program” (STC-22-034), May 19, 2022 | ML22139A026.
NRC Strategic Plan, NUREG-1614, Vol. 8, “Strategic Plan, Fiscal Years 2022-2026” | ML22067A170.
Regulatory Basis, “Rubidium-82 Generators, Emerging Technologies, and Other Medical Use of Byproduct Material,” June 2023 | ML23122A356.

The NRC may post materials related to this document, including public comments, on the Federal rulemaking website at https://www.regulations.gov under Docket ID NRC-2018-0297. In addition, the Federal rulemaking website allows members of the public to receive alerts when changes or additions occur in a docket folder. To subscribe: (1) navigate to the docket folder (NRC-2018-0297); (2) click the “Subscribe” link; and (3) enter an email address and click on the “Subscribe” link.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883). The NRC requests comment on this document with respect to the clarity and effectiveness of the language used.

Dated: June 27, 2023.
For the Nuclear Regulatory Commission.
John M. Moses,
Deputy Director, Division of Rulemaking, Environmental, and Financial Support, Office of Nuclear Material Safety and Safeguards.

[FR Doc. 2023-14018 Filed 6-30-23; 8:45 am]

BILLING CODE 7590-01-P